DEPARTMENT OF LABOR

Center for Faith-Based & Community Initiatives; Call for Papers; White House National Summit on Prisoner Reentry

November 27-28, 2007.

Summary: The White House and the U.S. Departments of Labor and Justice issue this call for papers to evaluate whether an offender's sustained participation in and completion of any pre-release program in a correctional system or post-release service or program through faith-based and community organizations impacts ex-offender recidivism. We are seeking paper concepts for recently completed papers or papers that will be completed prior to the conference. We encourage contributions by researchers from academia, state or local agencies, business organizations, labor associations, research consulting firms and other relevant organizations.

Context: Each year more than 650,000 inmates are released from Federal and State prisons and return to their communities and families. Released prisoners face many challenges that contribute to a return to criminal activity, re-arrest, and re-incarceration. Joblessness among ex-prisoners has been linked to recidivism rates.¹

¹ According to the DOJ, almost three out of five returning inmates will be rearrested and charged with new crimes within three years of their release from prison.

Unemployment among ex-prisoners has been estimated at between 25 and 40 percent.² Prisoners also demonstrate low levels of educational attainment. Forty percent of adult state prisoners are functionally illiterate and over half of state parole entrants are not high school graduates.³

² Joan Petersilia, When Prisoners Come Home: Parole and Prisoner Reentry (Oxford : Oxford University Press, 2003), 119 (citing Peter Finn, Successful Job Placement for Ex-Offenders: The Center for Employment Opportunities. Washington, DC: National Institute of Justice).

³ Joan Petersilia, When Prisoners Come Home: Parole and Prisoner Reentry (Oxford: Oxford University Press, 2003), 32 (citing Gwen Rubinstein, Getting to Work: How TANF Can Support Ex-Offender Parents in the Transition to Self-Sufficiency (Washington, DC: Legal Action Center, 2001).

The White House National Summit on Prisoner Reentry will focus on issues related to impacts, trends, and challenges of prisoner reentry into society, both pre-release and post-release. In addition, this conference will focus on the positive outcomes that faith-based and community organizations and the correctional system can have on lowering recidivism and raising employment for ex-offenders.

Possible topics may include, but are not limited to:

1. The impact on recidivism,⁴ if any, of an offender's ⁵ sustained participation in and completion of:

⁴ Defined most liberally as re-arrest (not necessarily re-incarceration) for parole violation or for new offense within 36 months after release.

⁵ Defined as adult or juvenile, male or female incarcerated offender.

• Any mentoring program involving a volunteer meeting (in person or by video-conference) at least monthly with an offender for at least the last 90 days before and/or the first 90 days after release;

• Any post-release program administered by a faith-based or community organization that emphasizes job training, job placement, mentoring, or other transitional services;

• Regular, sustained pre-release participation by inmates in vocational training or compensated, skilled prison industry;

• Any pre-release program in which inmates have parenting-enrichment training and regular (at least semi-monthly) contact (in person or by video-conference) with one or more of their minor children;

• Any pre-release program in which female inmates have daily contact with their infant children on-site;

• Regular (at least weekly), sustained pre-release participation by inmates in faith-based or philosophical meetings;

• Any post-release program that includes a housing component;

• Any pre-release program (residential or non-residential) in a correctional system in which inmates pursue a curriculum on reintegration into their community from a faith-, character-, or philosophically-based perspective;

• Any post-release program of re-entry services (e.g., job placement, substance abuse therapy, transitional housing) in which ex-offenders have a genuine choice of service providers, faith-based and secular;

• Any pre-release program in which most or all inmates apply and are selected to be housed in the same correctional facility wherein religious or cognitive behavior curriculum and intensive religious programming are provided or required (including “faith-based prisons”);

2. A survey of the domestic and/or international academic literature on any of the offender reentry programs listed as a topic under part 1.

3. Other research on the impact of Faith-Based and Community Organizations on the ability of ex-offenders to successfully reintegrate into society following incarceration (with a particular emphasis on employment and recidivism).

Sponsoring Agencies

The mission of the Department of Labor (DOL) Center for Faith-Based & Community Initiatives (CFBCI) is to empower faith-based and community organizations as they help their neighbors prepare for, enter, and thrive in the workforce. The CFBCI works to cultivate public-nonprofit-private partnerships nationwide to make services more effective such as new grant opportunities and pilot projects, cost-free training for faith-based and community organizations to effect program practices and grant writing, research to better understand the role nonprofits can play in social services, and other innovative projects.

The Task Force for Faith-Based and Community Initiatives (TFFBCI) of the U.S. Department of Justice (DOJ) provides assistance to faith-based and community organizations in identifying funding opportunities within the Federal government for which they are eligible to apply. DOJ administers programs to provide assistance to victims of crime, prisoners and ex-offenders, and women who suffer domestic violence. In addition, DOJ has initiatives to target gang violence and at-risk youth.

Time and Place: The meeting will be held from on November 27-28, 2007 in Los Angeles, CA.

Submission of Papers: All paper concepts submitted will be reviewed by a panel of DOL and DOJ experts in the prisoner reentry arena and presenters will be notified if their papers are selected. Papers selected for the conference will be published as part of our White House National Summit on Prison Reentry Paper Series. If interested, please submit your paper concept in hard copy and diskette/CD (Word Perfect or Word) by September 30, 2007. Paper concepts should be doubled-spaced and single sided. You will be notified by October 26, 2007 if your paper is selected; you will have to confirm your attendance by November 9, 2007. Please send your paper concept to: Christopher Stio, U.S. Department of Labor, Center for Faith-Based & Community Initiatives, 200 Constitution Avenue, NW., Room S-2235, Washington, DC 20210. Christopher Stio may be reached at (202) 693-6450. We also encourage submitting abstracts for papers that have not yet been completed, but will be completed before the deadline for submission of papers. All papers submitted, including abstracts, must be the original work of the author(s) submitting such materials. Each author whose paper is selected for publication will be required to verify in writing that his/her submission(s) is an original work of authorship. In addition, the author of each submission grants to the U.S. Government a royalty-free, irrevocable license to reproduce, distribute, create derivative works from, and publicly perform and display such work in any form or medium, including print or electronic, without geographic limitation.

Public Participation: This Conference is open to the public; there is no registration fee.

Signed at Washington, DC, this 12th day of June, 2007.
Rhett Butler,
Director, U.S. Department of Labor, Center for Faith-Based and Community Initiatives.

[FR Doc. 07-2959 Filed 6-15-07; 8:45 am]

BILLING CODE 4510-23-P